DEPARTMENT OF COMMERCE

Foreign-Trade Zones Board

[Docket 24-99]

Foreign-Trade Zone 76—Bridgeport, Connecticut; Withdrawal of Application for Subzone Status; Davidoff of Geneva (CT), Inc. Facility, Stamford, Connecticut

Notice is hereby given of the withdrawal of the application submitted by the City of Bridgeport, Connecticut, grantee of FTZ 76, requesting special-purpose subzone status at the Davidoff of Geneva (CT), Inc. facility in Stamford, Connecticut. The application was filed on May 12, 1999 (64 FR 27958, 5/24/99), and the case was closed on January 16, 2001.

Dated: January 17, 2001.
Dennis Puccinelli,
Executive Secretary.

[FR Doc. 01-2205 Filed 1-30-01; 8:45 am]

BILLING CODE 3510-DS-P